DEPARTMENT OF COMMERCE

Minority Business Development Agency

[Docket No. 061214337-6337-01]

Amendment to the Award Period for the Queens Minority Business Development Center

AGENCY: Minority Business Development Agency, Commerce.

ACTION: Notice.

SUMMARY: The Minority Business Development Agency (MBDA) is publishing this notice to allow for up to a 120-day funded extension, on a non-competitive basis, of the current award for the Queens Minority Business Enterprise Center (Queens MBEC) (formerly the Queens Business Development Center). The Queens MBEC was originally funded for a three-year award period commencing on January 1, 2004 and closing on December 31, 2006, pursuant to a Federal Register notice published on August 29, 2003. MBDA published a Federal Register notice on July 26, 2006 soliciting competitive applications for an operator of the Queens MBEC for the next three-year award period commencing January 1, 2007. However, the solicitation resulted in an unsuccessful competition, and MBDA intends to re-open the solicitation period to allow the public additional time to submit responsive applications to operate the Queens MBEC during the next funding cycle. MBDA is taking the actions set forth in this notice to allow for continued program delivery by the incumbent operator of the Queens MBEC while MBDA completes the solicitation process.

DATES: The additional award period and related funding, if approved by the Department of Commerce Grants Officer, will commence January 1, 2007 and will continue for a period not to exceed 120 days.

FOR FURTHER INFORMATION CONTACT: Mr. Efrain Gonzalez, Program Manager, Minority Business Development Agency, Office of Business Development, 1401 Constitution Avenue, NW., Room 5075, Washington, DC 20230. Mr. Gonzalez may be reached by telephone at (202) 482-1940 and by e-mail at egonzalez@mbda.gov.

SUPPLEMENTARY INFORMATION: The Queens MBEC (which covers the New York counties of Queens, Nassau and Suffolk) was originally funded for a three-year award period commencing on January 1, 2004 and closing on December 31, 2006, pursuant to a Federal Register notice published on August 29, 2003 (68 FR 51965), as amended on September 30, 2003 (68 FR 56265).

On July 26, 2006, MBDA published a notice in the Federal Register (71 FR 42351) announcing the solicitation of competitive applications for an operator of the Queens MBEC for the next three-year funding cycle commencing January 1, 2007. The applications received by MBDA in response to the solicitation for the Queens MBEC did not satisfy the minimum evaluation criterion scoring requirements set forth in the notice, resulting in an unsuccessful competition. Accordingly, MBDA intends to publish a Federal Register notice re-opening the solicitation period for the Queens MBEC in order to allow MBDA to conduct additional outreach activities and to provide the public with additional time to submit responsive applications.

This notice amends the August 29, 2003 notice to allow for an up to 120-day funded extension, on a non-competitive basis, to the current award period of the Queens MBEC. MBDA is making this amendment to allow for continued program delivery by Jamaica Business Resource Center, the incumbent operator of the Queens MBEC, while the Agency conducts outreach activities and completes the solicitation process for an operator of the Queens MBEC for the next award cycle. The length of any extension (not to exceed 120 days) and the amount of funding necessary to carry out the extension are at the sole discretion of the Grants Officer, based on such factors as the Queens MBEC's performance, the availability of funds, and agency priorities.

Limitation of Liability

Funding for the potential award extension listed in this notice is contingent upon the availability of Fiscal Year 2007 appropriations, which have not yet been appropriated for the MBEC program. MBDA issues this notice subject to the appropriations made available under the current continuing resolution, H.R. 5631, “Continuing Appropriations Resolution, 2007,” Public Law 109-289, as amended by H.J. Res. 100, Public Law 109-369 and H.J. Res. 102, Public Law 109-383. In no event will MBDA or the Department of Commerce (Department) be responsible to cover any costs incurred outside of the current award period by the incumbent operator of the Queens MBEC if the MBEC program fails to receive funding or is cancelled because of other MBDA or Department priorities. Publication of this announcement does not oblige MBDA or the Department to award an extension to the current operator of the Queens MBEC or to obligate any available funds for such purpose.

Department of Commerce Pre-Award Notification Requirements for Grants and Cooperative Agreements

The Department of Commerce Pre-Award Notification Requirements for Grants and Cooperative Agreements contained in the December 30, 2004 Federal Register notice (69 FR 78389) are applicable to this notice.

Executive Order 12866

This notice has been determined to be not significant for purposes of E.O. 12866.

Executive Order 13132 (Federalism)

It has been determined that this notice does not contain policies with Federalism implications as that term is defined in Executive Order 13132.

Administrative Procedure Act/Regulatory Flexibility Act

Prior notice and an opportunity for public comment are not required by the Administrative Procedure Act for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis is not required and has not been prepared.

Authority: 15 U.S.C. 1512 and Executive Order 11625.

Dated: December 19, 2006.
Ronald N. Langston,
National Director, Minority Business Development Agency.

[FR Doc. E6-21981 Filed 12-21-06; 8:45 am]

BILLING CODE 3510-21-P